DEPARTMENT OF DEFENSE

Department of the Army

[Docket ID USA-2011-0022]

Privacy Act of 1974; System of Records; Correction

AGENCY: Department of the Army, Department of Defense (DoD).

ACTION: Notice to add a system of records; correction.

SUMMARY: On September 6, 2011 (76 FR 55057-55059), DoD published a notice announcing its intent to add a Privacy Act System of Records. The system identifier was incorrectly written. This notice corrects that error.

FOR FURTHER INFORMATION CONTACT: Mr. Leroy Jones, Department of the Army, Privacy Office, U.S. Army Records Management and Declassification Agency, 7701 Telegraph Road, Casey Building, Suite 144, Alexandria, VA 22325-3905, telephone: (703) 428-6185.

SUPPLEMENTARY INFORMATION: On September 6, 2011, DoD published a notice announcing its intent to add a system in its inventory of Privacy Act System of Records: Student Loan Repayment Program Records. Subsequent to the publication of that notice, DoD discovered that the system identifier on page 55058 was incorrectly published.

Correction

In the notice (FR Doc. 2011-22612) published on September 6, 2011 (76 FR 55057-55059), make the following correction: On page 55058, in the first column, “A0621-1a” should read “A0621-1a DAPE”.

Dated: September 19, 2011.
Aaron Siegel,
Alternate OSD Federal Register Liaison Officer, Department of Defense.

[FR Doc. 2011-24357 Filed 9-21-11; 8:45 am]

BILLING CODE 5001-06-P